DEPARTMENT OF COMMERCE

National Oceanic and Atmospheric Administration

[I.D. 042301A]

Atlantic Highly Migratory Species; Draft Biological Opinion

AGENCY: National Marine Fisheries Service (NMFS), National Oceanic and Atmospheric Administration (NOAA), Commerce.

ACTION: Reopening of comment period.

SUMMARY: NMFS announces the reopening of the comment period on the draft biological opinion on authorization of the fisheries under the Fishery Management Plan for Atlantic Tunas, Swordfish and Sharks that published in the Federal Register on April 11, 2001. This action is being taken because several constituents requested additional time to review the document due to its size and complexity.

DATES: Comments on the draft document will be accepted through 5 p.m. EST on May 4, 2001. The draft biological opinion is available from NMFS (see ADDRESSES).

ADDRESSES: Written comments on the document must be mailed to Bruce C. Morehead, Acting Director, Office of Sustainable Fisheries, National Marine Fisheries Service, 1315 East-West Highway, Silver Spring, MD 20910; or faxed to 301-713-1917. Comments will not be accepted if submitted via email or the Internet. Copies of the draft document may be obtained from Christopher Rogers, Acting Chief, Highly Migratory Species Management Division, NMFS, 1315 East-West Highway, Silver Spring, MD 20910.

FOR FURTHER INFORMATION CONTACT: Christopher Rogers, 301-713-2347.

SUPPLEMENTARY INFORMATION: For tbhe notice of availability of the draft biological opinion on authorization of the fisheries under the Fishery Management Plan for Atlantic Tunas, Swordfish and Sharks that published at 66 FR 18755, April 11, 2001, the comment period ended on April 18, 2001 at 5 p.m. EST. This document reopens the comment period to May 4, 2001. The document is available on the Internet at (http://www.nmfs.noaa.gov/); printed copies are available from NMFS upon request (see ADDRESSES).

Authority: 16 U.S.C. 1801 et seq.

Dated: April 24, 2001.
Bruce C. Morehead,
Acting Director, Office of Sustainable Fisheries, National Marine Fisheries Service.

[FR Doc. 01-10521 Filed 4-24-01; 3:35 pm]

BILLING CODE 3510-22-S